DEPARTMENT OF HEALTH AND HUMAN SERVICES

Health Resources and Services Administration

“Low-Income” Levels for Health Professions and Nursing Programs

Health Resources and Services Administration (HRSA) is updating income levels used to identify a “low-income family” for the purpose of providing training in the various health professions and nursing programs included in titles VII and VIII of the Public Health Service Act (the Act).

The Department periodically publishes in the Federal Register low-income levels used for grants and cooperative agreements to institutions providing training for (1) disadvantaged individuals, (2) individuals from a disadvantaged background, or (3) individuals from low-income families.

The program under the Act that may use “low-income levels” as one of the factors in determining a disadvantaged or low-income status are:

Advanced Education Nursing (section 811)

Allied Health Special Projects (section 755)

Basic Nurse Education and Practice (section 831)

Dental Public Health (section 768)

Faculty Loan Repayment and Fellowships Program (section 738)

General and Pediatric Dentistry (section 747)

Health Administration Traineeships and Special Projects (section 769)

Health Careers Opportunity Program (section 739)

Loans to Disadvantaged Students (section 724)

Physician Assistant Training (section 747)

Primary Care Residency Training (section 747)

Public Health Traineeships (section 767)

Quentin N. Burdick Program for Rural Interdisciplinary Training (section 754)

Residency Training in Preventive Medicine (section 768)

Scholarships for Disadvantaged Students (section 737)

Public Health Training Centers (section 766)

Nursing Workforce Diversity (section 821)

These programs generally award grants to accredited schools of medicine, osteopathic medicine, public health, dentistry, veterinary medicine, optometry, pharmacy, allied health, Pediatric medicine, nursing, chiropractic, public or nonprofit private schools which offer graduate programs in behavioral health and mental health practice, and other public or private nonprofit health or educational entities to assist the disadvantaged to enter the graduate from health professions schools. Some programs provide for the repayment of health professions education loans for disadvantaged students.

The following income figures were taken from poverty thresholds published by the U.S. Bureau of the Census, using an index adopted by a Federal Interagency Committee for use in a variety of Federal programs. That index includes multiplication by a factor of 1.3 for adaptation to health professions and nursing programs which support training for disadvantaged individuals or those from disadvantaged backgrounds. The income figures have been updated to reflect increases in the Consumer Price Index through December 31, 1999.

Size of parents' family* | Income level**
1 | $11,100
2 | 14,400
3 | 17,200
4 | 22,000
5 | 26,000
6 or more | 29,200
* Includes only dependents listed on Federal income tax forms.
** Rounded to the nearest $100. Adjusted gross income for calendar year 1999.

Dated: May 18, 2000.
Claude Earl Fox,
Administrator.

[FR Doc. 00-12991 Filed 5-23-00; 8:45 am]

BILLING CODE 4160-15-M